DEPARTMENT OF COMMERCE

National Oceanic and Atmospheric Administration

50 CFR Part 648

[Docket No. 041110317-4364-02; I.D. 092805B]

Fisheries of the Northeastern United States; Summer Flounder Fishery; Commercial Quota Harvested for Massachusetts

AGENCY: National Marine Fisheries Service (NMFS), National Oceanic and Atmospheric Administration (NOAA), Commerce.

ACTION: Temporary rule; closure.

SUMMARY: NMFS announces that the 2005 summer flounder commercial quota available to Massachusetts has been projected to have been harvested. To maintain consistency between state and Federal waters, NMFS is announcing the closure of summer flounder in Federal waters to coincide with the closure announced by the Massachusetts Division of Marine Fisheries (MA DMF). Vessels issued a commercial Federal fisheries permit for the summer flounder fishery may not land summer flounder in Massachusetts for the remainder of calendar year 2005, unless additional quota becomes available through a transfer. Regulations governing the summer flounder fishery require publication of this notification to advise Massachusetts of the closure and to advise vessel permit holders and dealer permit holders that no commercial quota is available for landing summer flounder in Massachusetts.

DATES: Effective 0001 hours, November 18, 2005, through 2400 hours, December 31, 2005.

FOR FURTHER INFORMATION CONTACT: Mike Ruccio, Fishery Management Specialist, (978) 281-9104.

SUPPLEMENTARY INFORMATION: Regulations governing the summer flounder fishery are found at 50 CFR part 648. The regulations require annual specification of a commercial quota that is apportioned on a percentage basis among the coastal states from North Carolina through Maine. The process to set the annual commercial quota and the percent allocated to each state is described in § 648.100.

The initial total commercial quota for summer flounder for the 2005 calendar year was set equal to 18,180,002 lb (8,246,395 kg) (70 FR 303, January 4, 2005). The percent allocated to vessels landing summer flounder in Massachusetts is 6.82046 percent, resulting in a commercial quota of 1,239,960 lb (562,442 kg). However, the 2005 allocation to Massachusetts was reduced to 1,177,554 lb (534,130 kg) due to research set-aside and 2004 quota overages. The states of North Carolina, New Jersey, and Rhode Island and the Commonwealth of Virginia have transferred a total of 53,176 lb (24,121 kg) to Massachusetts in accordance with the Atlantic States Marine Fisheries Commission (ASMFC) Addendum XV to the Summer Flounder, Scup, and Black Sea Bass Fishery Management Plan (FMP), bringing the total quota to 1,230,730 lb (558,259 kg).

Section 648.101(b) requires the Administrator, Northeast Region, NMFS (Regional Administrator) to monitor state commercial quotas and to determine when a state's commercial quota has been harvested. NMFS then publishes a notification in the Federal Register to advise the state and to notify Federal vessel and dealer permit holders that, effective upon a specific date, the state's commercial quota has been harvested and no commercial quota is available for landing summer flounder in that state. In consultation with the MA DMF, the Regional Administrator has determined, based upon dealer reports and other available information, that Massachusetts has harvested its quota for 2005. Furthermore, this closure action in Federal waters is necessary to coordinate with the closure announced for state waters by the MA DMF to maintain consistency in the fishery.

The regulations at § 648.4(b) provide that Federal permit holders agree, as a condition of the permit, not to land summer flounder in any state that the Regional Administrator has determined no longer has commercial quota available. Therefore, effective 0001 hours, November 18, 2005, further landings of summer flounder in Massachusetts by vessels holding summer flounder commercial Federal fisheries permits are prohibited for the remainder of the 2005 calendar year, unless additional quota becomes available through a transfer and is announced in the Federal Register. Effective 0001 hours, November 18, 2005, federally permitted dealers may not purchase summer flounder from federally permitted vessels that land in Massachusetts for the remainder of the calendar year, or until additional quota becomes available through a transfer.

Classification

This action is required by 50 CFR part 648 and is exempt from review under Executive Order 12866.

Authority: 16 U.S.C. 1801 et seq.

Dated: November 17, 2005.
Alan D. Risenhoover,
Acting Director, Office of Sustainable Fisheries, National Marine Fisheries Service.

[FR Doc. 05-23187 Filed 11-18-05; 2:22 pm]

BILLING CODE 3510-22-S